NATIONAL AERONAUTICS AND SPACE ADMINISTRATION

[Notice (05-021)]

Notice of Prospective Patent License

AGENCY: National Aeronautics and Space Administration.

ACTION: Notice of prospective patent license.

SUMMARY: NASA hereby gives notice that TPH Acquisition, LLLP, D/b/a The Parts House, of 10321 Fortune Parkway, Bldg. 400, Jacksonville, FL 32256, has applied for an Exclusive license to practice the inventions described in NASA Case Number LAR-16324-1 for which a U.S. Patent was issued and LAR-16324-2 for which a Patent Application was filed, both entitled “Self-Activating System And Method For Alerting When An Object Or A Person Is Left Unattended” and assigned to the United States of America as represented by the Administrator of the National Aeronautics and Space Administration. Written objections to the prospective grant of a license should be sent to Langley Research Center.

DATES: Responses to this notice must be received by February 24, 2005.

FOR FURTHER INFORMATION CONTACT: Kurt G. Hammerle, Patent Attorney, Langley Research Center, Mail Stop 141, Hampton, VA 23681-2199. Telephone 757-864-2470; Fax 757-864-9190.

Dated: February 3, 2005.
Keith T. Sefton,
Deputy General Counsel (Administration and Management).

[FR Doc. 05-2513 Filed 2-8-05; 8:45 am]

BILLING CODE 7510-13-P